DEPARTMENT OF LABOR

Employment and Training Administration

[TA-W-65,873]

Tyco Electronics, Greensboro, NC; Notice of Termination of Investigation

Pursuant to Section 221 of the Trade Act of 1974, as amended, an investigation was initiated on May 1, 2009 in response to a petition filed on behalf of workers of Tyco Electronics, Greensboro, North Carolina.

The petitioner has requested that the petition be withdrawn. Consequently, the investigation has been terminated.

Signed at Washington, DC, this 13th day of May 2009.
Linda G. Poole,
Certifying Officer, Division of Trade Adjustment Assistance.

[FR Doc. E9-13914 Filed 6-12-09; 8:45 am]

BILLING CODE 4510-FN-P